DEPARTMENT OF TRANSPORTATION

Office of the Secretary

Notice of Applications for Certificates of Public Convenience and Necessity and Foreign Air Carrier Permits Filed Under Subpart B (Formerly Subpart Q) During the Week Ending February 13, 2004

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-17121.

Date Filed: February 13, 2004.

Due Date for Answers, Conforming Applications, or Motion to Modify Scope: March 5, 2004.

Description: Application of Allegiant Air, Inc., requesting the Department disclaim jurisdiction over, or in the alternative that it approve, the transfer of Allegiant's certificate of public convenience and necessity to Allegiant Air, LLC, and that the Department reissue the certificate in the name of Allegiant Air, LLC.

Maria Gulczewski,
Acting Program Manager, Docket Operations, Federal Register Liaison.

[FR Doc. 04-3910 Filed 2-23-04; 8:45 am]

BILLING CODE 4910-62-P